DEPARTMENT OF ENERGY

Amended Record of Decision: Idaho High-Level Waste and Facilities Disposition Final Environmental Impact Statement; Correction

AGENCY: U.S. Department of Energy.

ACTION: Amended Record of Decision; Correction.

SUMMARY: The Department of Energy (DOE) published a document in the Federal Register of January 4, 2010, announcing an amended Record of Decision (ROD) for the Idaho High-Level Waste and Facilities Disposition Final Environmental Impact Statement. This document corrects an error in that notice.

FOR FURTHER INFORMATION CONTACT: Requests for additional information on this Amended ROD should be directed to Nolan R. Jensen, Federal Project Director, U.S. DOE Idaho Operations Office, 1955 Fremont Avenue, MS 1222, Idaho Falls, ID 83415, telephone (208) 526-5793.

Correction

In the Federal Register of January 4, 2010, in FR Doc. E9-31151, please make the following correction:

On page 137, third column, under the heading DEPARTMENT OF ENERGY, the heading is corrected to read: Amended Record of Decision: Idaho High-Level Waste and Facilities Disposition Final Environmental Impact Statement

Issued in Washington, DC, on January 5, 2010.
Mark Gilbertson,
Acting Chief Technical Officer for Environmental Management.

[FR Doc. 2010-319 Filed 1-11-10; 8:45 am]

BILLING CODE 6450-01-P